DEPARTMENT OF THE INTERIOR

National Park Service

[NPS-WASO-NRNHL-20657; PPWOCRADI0, PCU00RP14.R50000]

National Register of Historic Places; Notification of Pending Nominations and Related Actions

AGENCY: National Park Service, Interior.

ACTION: Notice.

SUMMARY: The National Park Service is soliciting comments on the significance of properties nominated before March 12, 2016, for listing or related actions in the National Register of Historic Places.

DATES: Comments should be submitted by April 21, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before March 12, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

CALIFORNIA

Tulare County

Bearpaw High Sierra Camp, Sequoia National Park, Three Rivers, 16000192

DISTRICT OF COLUMBIA

District of Columbia

Kalorama Park and Archeological District, 1875 Columbia Rd. NW., Washington, 16000193

Southern Railway Building, 1500 K St. NW., Washington, 16000194

GEORGIA

Fulton County

Capitol View Historic District, Roughly bounded by Hartford Pl., Fairbanks St., Perkerson Park, Sylvan Rd., and Division Pl., Atlanta, 16000195

ILLINOIS

Du Page County

Big Woods School, 3033 N. Eola Rd., Aurora, 16000197

Lawrence County

Bridge at Thirteenth Street, 13th St. between Clark and Johnson Sts., St. Francisville, 16000198

IOWA

Cerro Gordo County

Rock Crest—Rock Glen Historic District (Boundary Increase), 431 First St. SE., 11, 15, 21 Rock Glen, 507, 511, 525, 541 E. State St., 22, 28, 110, 120, 204, South Carolina Ave., Mason City, 16000196

MARYLAND

Wicomico County

United States Post Office, 129 East Main St., Salisbury, 16000199

MICHIGAN

Kalamazoo County

Brown, Eric and Margaret Ann (Davis), House, 2806 Taliesin, Kalamazoo, 16000200

NEW YORK

Greene County

Stanton Hill Cemetery, County Route 50, Hannacroix (Town of New Baltimore), 16000201

St. Lawrence County

Ogdensburg Harbor Lighthouse, 2 Jackson St., Ogdensburg, 16000202

PENNSYLVANIA

Dauphin County

Hotel Lykens, 600 Main St., Lykens, 16000203

Israel Building, 601 Main St., Lykens, 16000204

VIRGINIA

Fauquier County

Broad Run—Little Georgetown Rural Historic District, Roughly bounded by The Plains, Bull Run Mountains, John Marshall Hwy., Bust Head Rd., and Hopewell Rd., Broad Run, 16000205

WISCONSIN

La Crosse County

La Crosse Armory, 2219 South Ave., La Crosse, 16000206

WYOMING

Sheridan County

Robinson—Smith House, 520 South Brooks St., Sheridan, 16000207

Authority: 60.13 of 36 CFR part 60.

Dated: March 18, 2016.
J. Paul Loether,
Chief, National Register of Historic Places/National Historic Landmarks Program.

[FR Doc. 2016-07821 Filed 4-5-16; 8:45 am]

BILLING CODE 4312-51-P